DEPARTMENT OF HEALTH AND HUMAN SERVICES

Centers for Disease Control and Prevention

Advisory Committee on Breast Cancer in Young Women (ACBCYW)

In accordance with section 10(a)(2) of the Federal Advisory Committee Act (Pub. L. 92-463), the Centers for Disease Control and Prevention (CDC), announces the following meeting of the aforementioned committee:

Times and Dates

9 a.m.-5 p.m., January 31, 2011.

8 a.m.-3 p.m., February 1, 2011.

Place: Emory Conference Center Hotel and Emory Inn, 1615 Clifton Road, NE., Atlanta, Georgia 30329.

Status: Open to the public, limited only by the space available.

Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters To Be Discussed: The agenda will include discussions on evidence-based recommendations and the public health aspects of breast cancer in young women including biology, genomics, prevention, early diagnosis, treatment, and survivorship; appropriate venues to educate women at increased risk for developing breast cancer at younger ages; and approaches to increase awareness of clinicians/practitioners regarding topics such as breast health, symptoms, diagnosis, and treatment of breast cancer in young women.

Agenda items are subject to change as priorities dictate.

In order to assure that sufficient space and materials are available for meeting attendees, CDC is requesting that potential attendees register to attend this meeting at the following Web site: http://www.cdc.gov/cancer/breast/what_cdc_is_doing/conference.htm.

Contact Person for More Information: Temeika L. Fairley, PhD, Designated Federal Officer, National Center for Chronic Disease Prevention and Health Promotion, CDC, 5770 Buford Hwy, NE., Mailstop K52, Atlanta, Georgia, 30341, Telephone (770) 488-4518, Fax (770) 488-4760.

The Director, Management Analysis and Services Office, has been delegated the authority to sign Federal Register notices pertaining to announcements of meetings and other committee management activities, for both the Centers for Disease Control and Prevention, and Agency for Toxic Substances and Disease Registry.

Dated: December 28, 2010.
Elaine Baker,
Director, Management Analysis and Services Office, Centers for Disease Control and Prevention.

[FR Doc. 2011-26 Filed 1-5-11; 8:45 am]

BILLING CODE 4163-18-P